DEPARTMENT OF HEALTH AND HUMAN SERVICES

National Institutes of Health

National Cancer Institute; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Cancer Institute Special Emphasis Panel; NCI SPORE (P50) I Review.

Date: January 23-24, 2020.

Time: 8:00 a.m. to 4:00 p.m.

Agenda: To review and evaluate grant applications.

Place: Hilton Washington/Rockville, 1750 Rockville Pike, Rockville, MD 20852.

Contact Person: Klaus B. Piontek, Ph.D., Scientific Review Officer, Research Programs Review Branch, Division of Extramural Activities, 9609 Medical Center Drive, Room 7W116, National Cancer Institute, Rockville, MD 20892-9750, 240-276-5413, klaus.piontek@nih.gov.

Name of Committee: National Cancer Institute Special Emphasis Panel; NCI SPORE (P50) II Review.

Date: January 28-29, 2020.

Time: 8:00 a.m. to 1:00 p.m.

Agenda: To review and evaluate grant applications.

Place: Hilton Washington/Rockville, 1750 Rockville Pike, Rockville, MD 20852.

Contact Person: Majed M. Hamawy, Ph.D., MBA, Scientific Review Officer, Research Programs Review Branch, Division of Extramural Activities, National Cancer Institute, NIH, 9609 Medical Center Dr. Rm 7W120, Bethesda, MD 20892, 240-276-6457, mh101v@nih.gov.

Name of Committee: National Cancer Institute Special Emphasis Panel; NCI SPORE IV (P50) Review.

Date: February 4-5, 2020.

Time: 3:00 p.m. to 5:00 p.m.

Agenda: To review and evaluate grant applications.

Place: Hilton Washington/Rockville, 1750 Rockville Pike, Rockville, MD 20852.

Contact Person: John Paul Cairns, Ph.D., Scientific Review Officer, Research Programs Review Branch, Division of Extramural Activities, 9609 Medical Center Drive, Room 7W244, National Cancer Institute, NIH, Bethesda, MD 20892, 240-276-5415 paul.cairns@nih.gov.

Name of Committee: National Cancer Institute Special Emphasis Panel; Feasibility and Planning Studies for SPOREs to Investigate Cancer Health Disparities (P20).

Date: February 7, 2020.

Time: 8:00 a.m. to 6:00 p.m.

Agenda: To review and evaluate grant applications.

Place: National Cancer Institute Shady Grove, 9609 Medical Center Drive, Rm 2W910/912, Rockville, MD 20850.

Contact Person: Caron A. Lyman, Ph.D., Chief, Scientific Review Officer, National Cancer Institute, NIH, Division of Extramural Activities, Research Programs Review Branch, 9609 Medical Center Dr., Rm 7W126, Bethesda, MD 20892-9750, 240-276-6348, lymanc@mail.nih.gov.

Name of Committee: National Cancer Institute Special Emphasis Panel; TEP-7A: SBIR Contract Review.

Date: February 11, 2020.

Time: 10:30 a.m. to 5:30 p.m.

Agenda: To review and evaluate contract proposals.

Place: National Cancer Institute Shady Grove, 9609 Medical Center Drive, 6W030, Rockville, MD 20850 (Telephone Conference Call).

Contact Person: Ivan Ding, M.D. Health Scientist Administrator, National Cancer Institute, NIH, Division of Extramural Activities, Program & Review Extramural Staff Training Office, 9609 Medical Center Dr., Room 7W534, Bethesda, MD 20892-9750, 240-276-6444, dingi@mail.nih.gov.

Name of Committee: National Cancer Institute Special Emphasis Panel; TEP-7B: SBIR Contract Review.

Date: February 12, 2020.

Time: 10:30 a.m. to 4:30 p.m.

Agenda: To review and evaluate contract proposals.

Place: National Cancer Institute Shady Grove, 9609 Medical Center Drive, 7W034, Rockville, MD 20850 (Telephone Conference Call).

Contact Person: Ivan Ding, M.D., Health Scientist Administrator, National Cancer Institute, NIH, Division of Extramural Activities, Program & Review Extramural Staff Training Office, 9609 Medical Center Dr., Room 7W534, Bethesda, MD 20892-9750, 240-276-6444 dingi@mail.nih.gov.

Name of Committee: National Cancer Institute Special Emphasis Panel; NCI Program Project (P01) Review II.

Date: February 13-14, 2020.

Time: 8:00 a.m. to 4:00 p.m.

Agenda: To review and evaluate grant applications.

Place: Bethesda North Marriott Hotel & Conference Center, Montgomery County Conference Center Facility, 5701 Marinelli Road, North Bethesda, MD 20852.

Contact Person: Mukesh Kumar, Ph.D., Scientific Review Officer, Research Program Review Branch, Division of Extramural Activities, 9609 Medical Center Drive, Room 7W618, National Cancer Institute, NIH Rockville, MD 20850, 240-276-6611 mukesh.kumar3@nih.gov.

Name of Committee: National Cancer Institute Special Emphasis Panel; TEP-7C: SBIR Contract Review.

Date: February 13, 2020.

Time: 10:30 a.m. to 4:30 p.m.

Agenda: To review and evaluate contract proposals.

Place: National Cancer Institute Shady Grove, 9609 Medical Center Drive, 7W030, Rockville, MD 20850 (Telephone Conference Call).

Contact Person: Ivan Ding, M.D., Health Scientist Administrator, National Cancer Institute, NIH, Division of Extramural Activities, Program & Review Extramural Staff Training Office, 9609 Medical Center Dr., Room 7W534, Bethesda, MD 20892-9750, 240-276-6444, dingi@mail.nih.gov.

Name of Committee: National Cancer Institute Initial Review Group; Subcommittee J—Career Development.

Date: March 5-6, 2020.

Time: 4:00 p.m. to 4:00 p.m.

Agenda: To review and evaluate grant applications.

Place: Bethesda Marriott Suites, 6711 Democracy Boulevard, Bethesda, MD 20817.

Contact Person: Tushar Deb, Ph.D., Scientific Review Officer, Resources & Training Review Branch, Division of Extramural Activities, National Cancer Institute, NIH, 9609 Medical Center Drive, Room 7W624, Rockville, MD 20850, 240-276-6132, tushar.deb@nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: November 12, 2019.
Melanie J. Pantoja,
Program Analyst, Office of Federal Advisory Committee Policy.

[FR Doc. 2019-24850 Filed 11-15-19; 8:45 am]

BILLING CODE 4140-01-P